ENVIRONMENTAL PROTECTION AGENCY

40 CFR Part 52

[Region II Docket No. NJ42-1-214, FRL-6910-1]

Approval and Promulgation of Implementation Plans; New Jersey; Nitrogen Oxides Budget and Allowance Trading Program

Correction

In proposed rule document 00-30543 beginning on page 71278 in the issue of Thursday, November 30, 2000, make the following correction:

On page 71281, the table is corrected read as set forth below:

Source category | EPA's 2007 baseline emissions for NJ (tons/season) | EPA's 2007 NOX budget emissions for NJ (tons/season) | NJ's 2007 projected emissions (tons/season) | NJ's 2007 projected reductions (tons/season)
EGUs | 18,352 | 10,250 |  |
Non-EGU Point | 15,975 | 15,464 |  |
Total | 34,327 | 25,714 | 25,113* | 9,214
Area sources | 12,431 | 12,431 | 12,431 | 0
Non-road mobile | 23,565 | 23,565 | 23,565 | 0
Highway mobile | 35,166 | 35,166 | 36,166 | 0
NJ Total | 105,489 | 96,876 | 96,275 | 9,214
*8,200 cap from trading rule.

[FR Doc. C0-30543 Filed 12-11-00; 8:45 am]

BILLING CODE 1505-01-D